DEPARTMENT OF ENERGY

Federal Energy Regulatory Commission

[Project No. 2905-035]

Village of Enosburg Falls, Vermont; Notice of Waiver Period for Water Quality Certification Application

On August 1, 2022, the Village of Enosburg Falls, Vermont submitted to the Federal Energy Regulatory Commission (Commission) a copy of its application for a Clean Water Act section 401(a)(1) water quality certification filed with the Vermont Department of Environmental Conservation (Vermont DEC), in conjunction with the above captioned project. Pursuant to 40 CFR 121.6 and section 4.34(b)(5) of the Commission's regulations,¹ we hereby notify the Vermont DEC of the following:

¹ 18 CFR 4.34(b)(5).

Date of Receipt of the Certification Request: August 1, 2022.

Reasonable Period of Time to Act on the Certification Request: One year (August 1, 2023).

If Vermont DEC fails or refuses to act on the water quality certification request on or before the above date, then the agency certifying authority is deemed waived pursuant to section 401(a)(1) of the Clean Water Act, 33 U.S.C. 1341(a)(1).

Dated: August 9, 2022.
Kimberly D. Bose,
Secretary.

[FR Doc. 2022-17497 Filed 8-12-22; 8:45 am]

BILLING CODE 6717-01-P